DEPARTMENT OF THE INTERIOR

Bureau of Land Management

[LLES002000.L1430000.ES0000; FLES 055584]

Notice of Realty Action: Recreation and Public Purposes Act Classification and Conveyance; Lake County, FL

AGENCY: Bureau of Land Management, Interior.

ACTION: Notice of Realty Action.

SUMMARY: The Bureau of Land Management (BLM) has examined and found suitable for lease or conveyance to the city of Tavares under the provisions of the Recreation and Public Purposes (R&PP) Act of 1926, as amended, approximately 0.068 acres of public land, located within city limits of Tavares, in Lake County, Florida. The city of Tavares proposes to use the land for additional boat trailer parking.

DATES: Interested parties may submit written comments regarding this proposed classification or lease/conveyance of public land until April 23, 2010.

ADDRESSES: Please submit your written comments to the Field Manager, Bureau of Land Management—Eastern States (BLM-ES), Jackson Field Office, 411 Briarwood Drive, Suite 404, Jackson, Mississippi 39206. Comments received in electronic form, such as e-mail or facsimile, will not be considered.

FOR FURTHER INFORMATION CONTACT: Vicky Craft, BLM-ES Jackson Field Office, at 601-977-5435, or at the address above.

SUPPLEMENTARY INFORMATION: In accordance with Section 7 of the Act of June 28, 1943, as amended (43 U.S.C. 315f), and Executive Order 6964, the following described public land in Lake County, Florida, has been examined and found suitable for classification for lease or conveyance under the provisions of the R&PP Act, as amended, (43 U.S.C. 869 et seq.) and, accordingly, opened for only that purpose.

Tallahassee Meridian

T. 19 S., R.26 E.,

Sec. 29, Lot H, Block 2.

The area described contains 2,945.3 sq. ft. or 0.068 acres, more or less, in Lake County.

The city of Tavares owns approximately 6.66 acres on the shoreline of Lake Dora in the same section. The city also owns portions of the lake bottom of Lake Dora adjacent to the 6.66 acres of uplands. The proposed site for conveyance is adjacent to the already established Wooton Park. The park is currently utilized for recreation by city and Lake County residents. Facilities available include a playground, tennis courts, restrooms, boat ramp, walking trail, picnic area, limited boat docking, and parking. The city desires to expand and improve its current public amenities to include additional docking facilities for boats and seaplanes by incorporating the land into the existing park and converting it into boat trailer parking spaces.

Conveyance of the land to the city of Tavares is consistent with the BLM Florida Resource Management Plan, dated June 21, 1995, and would be in the public interest. Additional detailed information pertaining to this application, including a plan of development and a map depicting the public land, as well as environmental documents, are available for review at the BLM-ES Jackson Field Office.

The city of Tavares has not applied for more than the 6,400-acre limitation for recreation uses in a year and has submitted a statement of compliance with the regulations at 43 CFR 2741.4(b). The city of Tavares proposes to use the land for boat trailer parking spaces.

The city of Tavares has applied for a patent to the land under the R&PP Act of 1926. The patent or lease, if issued, would be subject to the following terms, conditions and reservations to the United States:

1. Provisions of the R&PP Act of 1926, as amended, and all applicable regulations of the Secretary of the Interior, including, but not limited to, those terms required by 43 CFR 2741.9;

2. Valid existing rights;

3. A reservation of all minerals by the United States, together with the right to prospect, mine and remove the minerals;

4. Terms and conditions identified through the site specific environmental analysis;

5. Any other rights or reservations that the authorized officer deems appropriate to ensure public access and proper management of Federal land and interest therein; and

6. An appropriate indemnification clause protecting the United States from claims arising out of the lessee's/patentee's use, occupancy, or operations on the leased/patented lands.

Upon publication of this notice in the Federal Register, the land described above will be segregated from all other forms of disposal or appropriation under the public land laws, including the general mining laws, except for lease or conveyance under the R&PP Act and leasing under the mineral leasing laws.

Classification Comments: Interested persons may submit comments involving the suitability of the land for boat trailer parking spaces. Comments on the classification are restricted to whether the land is physically suited for the proposal, whether the use will maximize the future use or uses of the land, whether the use is consistent with local planning and zoning, or if the use is consistent with state and Federal programs.

Application Comments: Interested persons may submit comments regarding the specific use proposed in the application and plan of development and the management plan, whether the BLM-ES followed proper administrative procedures in reaching the decision to lease and later convey under the R&PP Act, or any other factor not directly related to the suitability of the land for R&PP use.

Before including your address, phone number, e-mail address, or other personal identifying information in your comment, you should be aware that your entire comment—including your personal identifying information—may be made publicly available at any time. While you can ask in your comment to withhold your personal identifying information from public review, we cannot guarantee that we will be able to do so.

Any adverse comments will be reviewed by the BLM-ES State Director. In the absence of any adverse comments, the classification of the land described in the notice will become effective May 10, 2010. The land will not be conveyed until after the classification becomes effective.

Authority: 43 CFR 2741.5.

Bruce Dawson,
Field Manager.

[FR Doc. 2010-4975 Filed 3-8-10; 8:45 am]

BILLING CODE 4310-GJ-P